NUCLEAR REGULATORY COMMISSION

10 CFR Part 72

[NRC-2022-0109]

RIN 3150-AK86

List of Approved Spent Fuel Storage Casks: Holtec International HI-STORM 100 Cask System, Certificate of Compliance No. 1014, Renewal of Initial Certificate and Amendment Nos. 1 Through 15; Delay of Effective Date

AGENCY: Nuclear Regulatory Commission.

ACTION: Direct final rule; delay of effective date.

SUMMARY: The U.S. Nuclear Regulatory Commission (NRC) is delaying the effective date of a direct final rule published in the Federal Register on February 13, 2023. The direct final rule renews the initial certificate (Amendment 0) and Amendment Nos. 1 through 15 of the Holtec International HI-STORM 100 Certificate of Compliance No. 1014 for 40 years and revises the certificate of compliance's conditions and technical specifications to address aging management activities related to the structures, systems, and components important to safety of the dry storage system to ensure that these will maintain their intended functions during the period of extended storage operations. The delay is necessary for the NRC to evaluate the public comments submitted on the direct final rule.

DATES: The effective date of May 1, 2023, for the direct final rule published February 13, 2023 (88 FR 9106), is delayed indefinitely. The NRC will publish a subsequent document in the Federal Register either announcing a new effective date or withdrawing the direct final rule.

ADDRESSES: Please refer to Docket ID NRC-2022-0109 when contacting the NRC about the availability of information for this action. You may obtain publicly available information related to this action by any of the following methods:

• Federal Rulemaking Website: Go to https://www.regulations.gov and search for Docket ID NRC-2022-0109. Address questions about NRC dockets to Dawn Forder; telephone: 301-415-3407; email: Dawn.Forder@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. For the convenience of the reader, instructions about obtaining materials referenced in this document are provided in the “Availability of Documents” section.

• NRC's PDR: You may examine and purchase copies of public documents, by appointment, at the NRC's PDR, Room P1 B35, One White Flint North, 11555 Rockville Pike, Maryland 20852. To make an appointment to visit the PDR, please send an email to PDR.Resource@nrc.gov or call 1-800-397-4209 or 301-415-4737, between 8 a.m. and 4 p.m. eastern time, Monday through Friday, except Federal holidays.

FOR FURTHER INFORMATION CONTACT: James Firth, Office of Nuclear Material Safety and Safeguards, U.S. Nuclear Regulatory Commission; Washington, DC 20555-0001; telephone: 301-415-6628; email: James.Firth@nrc.gov.

SUPPLEMENTARY INFORMATION: On February 13, 2023, the NRC published a direct final rule (88 FR 9106) and a companion proposed rule (88 FR 9195) amending its regulations in part 72 of title 10 of the Code of Federal Regulations to revise the Holtec International HI-STORM 100 Cask System listing within the “List of approved spent fuel storage casks” to renew the initial certificate (Amendment No. 0) and Amendment Nos. 1 through 15 to Certificate of Compliance No. 1014. The renewal of the initial certificate and Amendment Nos. 1 through 15 for 40 years revises the certificate of compliance's conditions and technical specifications to address aging management activities related to the structures, systems, and components important to safety of the dry storage system to ensure that these will maintain their intended functions during the period of extended storage operations.

In the direct final rule published on February 13, 2023 (88 FR 9106), the NRC stated that if no significant adverse comments were received, the direct final rule would become effective on May 1, 2023. In response to requests for extension of the public comment period, on March 22, 2023, the NRC reopened the public comment period (88 FR 17164) until April 14, 2023. In total, the NRC received and docketed eight comment submissions on the companion proposed rule (88 FR 9195; February 13, 2023), that included requests for the NRC to extend the public comment period. An electronic copy of the comment submissions can be obtained from the Federal Rulemaking website https://www.regulations.gov under Docket ID NRC-2022-0109 and they are also available in ADAMS using the Accession numbers shown in the table in the Availability of Documents section.

In the direct final rule (88 FR 9106; February 13, 2023), the NRC originally provided a 45-day period between the close of the public comment period and the effective date of the direct final rule to allow the NRC sufficient time to evaluate whether any of the comments received are significant adverse comments and, if so, to prepare and publish a withdrawal of the direct final rule. After reopening the public comment period and receiving additional comments, the effective date of May 1, 2023, will not allow the NRC sufficient time to evaluate the comments.

Therefore, in order to provide the NRC with sufficient time to consider whether any of the comments received are significant adverse comments, the direct final rule will not become effective as scheduled.

The NRC will complete its evaluation of the public comments on the direct final rule and will publish a subsequent notice indicating either that the NRC is moving forward with the direct final rule, and if so, providing a new effective date, or that the NRC is withdrawing the direct final rule and moving forward under the companion proposed rule (88 FR 9195; February 13, 2023).

Availability of Documents

The documents identified in the following table are available to interested persons through one or more of the following methods, as indicated.

Document | ADAMS accession No./ Federal Register citation
“List of Approved Spent Fuel Storage Casks: Holtec International HI-STORM 100 Cask System, Certificate of Compliance No. 1014, Renewal of Initial Certificate and Amendment Nos. 1 Through 15”; Proposed rule (February 13, 2023) | 88 FR 9195.
“List of Approved Spent Fuel Storage Casks: Holtec International HI-STORM 100 Cask System, Certificate of Compliance No. 1014, Renewal of Initial Certificate and Amendment Nos. 1 Through 15”; Direct Final Rule: Environmental Assessment and Final Finding of No Significant Impact. (February 13, 2023) | 88 FR 9106.
“List of Approved Spent Fuel Storage Casks: Holtec International HI-STORM 100 Cask System, Certificate of Compliance No. 1014, Renewal of Initial Certificate and Amendment Nos. 1 Through 15”; Proposed rule; Reopening of Comment Period. (March 22, 2023) | 88 FR 17164.
Comment (001) from Brian Gutherman on PR-72—List of Approved Spent Fuel Storage Casks: Holtec International HI-STORM 100 Cask System, Certificate of Compliance No. 1014, Renewal of Initial Certificate and Amendment Nos. 1 through 15 | ML23046A406.
Comment (002) from Renante Baniaga on PR-72—List of Approved Spent Fuel Storage Casks: Holtec International HI-STORM 100 Cask System, Certificate of Compliance No. 1014, Renewal of Initial Certificate and Amendment Nos. 1 through 15 | ML23046A407.
Comment (003) from Michael Ford on PR-72—List of Approved Spent Fuel Storage Casks: Holtec International HI-STORM 100 Cask System, Certificate of Compliance No. 1014, Renewal of Initial Certificate and Amendment Nos. 1 through 15 | ML23073A116.
Comment (004) from Kalene Walker on PR-72—List of Approved Spent Fuel Storage Casks: Holtec International HI-STORM 100 Cask System, Certificate of Compliance No. 1014, Renewal of Initial Certificate and Amendment Nos. 1 through 15 | ML23075A156.
Comment Period Extension Request from NIRS, et al. on PR-72—List of Approved Spent Fuel Storage Casks: Holtec International HI-STORM 100 Cask System, Certificate of Compliance No. 1014, Renewal of Initial Certificate and Amendment Nos. 1 through 15 | ML23073A095.
Comment (005) from NIRS, et al. on PR-72—List of Approved Spent Fuel Storage Casks: Holtec International HI-STORM 100 Cask System, Certificate of Compliance No. 1014, Renewal of Initial Certificate and Amendment Nos. 1 through 15 | ML23107A144.
Comment (006) from Michael Ford on PR-72—List of Approved Spent Fuel Storage Casks: Holtec International HI-STORM 100 Cask System, Certificate of Compliance No. 1014, Renewal of Initial Certificate and Amendment Nos. 1 through 15 | ML23108A278.
Comment (007) from Kalene Walker on PR-72—List of Approved Spent Fuel Storage Casks: Holtec International HI-STORM 100 Cask System, Certificate of Compliance No. 1014, Renewal of Initial Certificate and Amendment Nos. 1 through 15 | ML23108A279.

The NRC may post materials related to this document, including public comments, on the Federal rulemaking website at https://www.regulations.gov under Docket ID NRC-2022-0109.

Dated: April 21, 2023.
For the Nuclear Regulatory Commission.
Cindy K. Bladey,
Chief, Regulatory Analysis and Rulemaking Support Branch, Division of Rulemaking, Environmental, and Financial Support Office of Nuclear Material Safety and Safeguards.

[FR Doc. 2023-08789 Filed 4-25-23; 8:45 am]

BILLING CODE 7590-01-P